DEPARTMENT OF TRANSPORTATION

Federal Aviation Administration

Public Notice of ADAP/FAAP Property Release; Hillsboro Airport, Hillsboro, Oregon

AGENCY: Federal Aviation Administration, (FAA), DOT.

ACTION: Notice.

SUMMARY: Notice is being given that the FAA is considering a request from the Port of Portland, Oregon to waive the ADAP/FAAP property requirements and dispose of approximately 5.6 acres of airport property located at Hillsboro Airport, in Hillsboro, Oregon.

DATES: Comments are due within 30 days of the date of the publication of this notice in the Federal Register. Emailed comments can be provided to Mr. Tim House, Lead Planner, Seattle Airports District Office, timothy.a.house@faa.gov.

FOR FURTHER INFORMATION CONTACT: Tim House, Lead Planner, Seattle Airports District Office, 2200 S 216 St., Des Moines, WA 98198, timothy.a.house@faa.gov, (206) 231-4248. Documents reflecting this FAA action may be reviewed at the above locations.

SUPPLEMENTARY INFORMATION: Under the provisions of Title 49, U.S.C. 47153(c), and 47107(h)(2), the FAA is considering a proposal from the Port of Portland, to release a portion of the Hillsboro Municipal Airport from aeronautical use to non-aeronautical use and dispose of the property. The property is separated from the aeronautical area of the airport by NE 25th Ave and has been determined through study that the subject parcel will not be needed for aeronautical purposes. The property will be utilized by the City of Hillsboro to develop a Public Safety Facility. There will be proceeds generated from the proposed release of this property. The Port will receive not less than fair market value for the property and the revenue generated from the sale will be used for airport purposes.

The proposal consists of 5.6 acres, on the northwest side of the airport. The parcels do not have airfield access. The FAA concurs that the parcel is no longer needed for aeronautical purposes. The proposed use of this property is compatible with other airport operations in accordance with FAA's Policy and Procedures Concerning the Use of Airport Revenue, published in Federal Register on February 16, 1999.

Issued in Des Moines, Washington, on April 25, 2023.
Warren D. Ferrell,
Manager, Seattle Airports District Office.

[FR Doc. 2023-09109 Filed 4-28-23; 8:45 am]

BILLING CODE 4910-13-P